DEPARTMENT OF HEALTH AND HUMAN SERVICES

National Institutes of Health

National Institute on Aging; Notice of Closed Meeting

Pursuant to section 1009 of the Federal Advisory Committee Act, as amended, notice is hereby given of a meeting of the Board of Scientific Counselors, NIA.

The meeting will be closed to the public as indicated below in accordance with the provisions set forth in sections 552b(c)(4) and 552b(c)(6), title 5 U.S.C., as amended for the review, discussion, and evaluation of individual grant applications conducted by the National Institute On Aging, including consideration of personnel qualifications and performance, and the competence of individual investigators, the disclosure of which would constitute a clearly unwarranted invasion of personal privacy.

Name of Committee: Board of Scientific Counselors, NIA.

Date: May 19-21, 2025.

Time: May 19, 2025, 8:00 a.m. to 4:30 p.m.

Agenda: Executive Session; Board Business; Review of Labs and PI's; Adjournment.

Address: National Institute of Aging, 251 Bayview Boulevard, Baltimore, MD 21224 (Virtual Meeting).

Time: May 20, 2025, 8:00 a.m. to 4:30 p.m.

Agenda: Executive Session; Board Business; Adjournment.

Address: National Institute of Aging, 251 Bayview Boulevard, Baltimore, MD 21224 (Virtual Meeting).

Time: May 21, 2025, 8:00 a.m. to 4:00 p.m.

Agenda: Executive Session; Board Business; Adjournment.

Meeting Format: Virtual Meeting.

Address: National Institute of Aging, 251 Bayview Boulevard, Baltimore, MD 21224.

Contact Person: Luigi Ferrucci, M.D., Ph.D., Scientific Director, National Institute of Aging, National Institutes of Health, 251 Bayview Boulevard, Suite 100, Room 4C225, Baltimore, MD 21224, 410-558-8110, email: LF27Z@NIH.GOV.

(Catalogue of Federal Domestic Assistance Program Nos. 93.866, Aging Research, National Institutes of Health, HHS)

Dated: March 17, 2025.
Bruce A. George,
Program Analyst, Office of Federal Advisory Committee Policy.

[FR Doc. 2025-04739 Filed 3-19-25; 8:45 am]

BILLING CODE 4140-01-P